DEPARTMENT OF JUSTICE

Antitrust Division

Notice Pursuant to the National Cooperative Research and Production Act of 1993—Ice Crystal Consortium

Notice is hereby given that, on December 31, 2009, pursuant to Section 6(a) of the National Cooperative Research and Production Act of 1993, 15 U.S.C. 4301 et seq. (“the Act”), the Ice Crystal Consortium (“ICC”) has filed written notifications simultaneously with the Attorney General and the Federal Trade Commission disclosing changes in its membership. The notifications were filed for the purpose of extending the Act's provisions limiting the recovery of antitrust plaintiffs to actual damages under specified circumstances. Specifically, Airbus SAS, Toulouse, FRANCE has been added as a party to this venture.

No other changes have been made in either the membership or planned activity of the group research project.

On July 28, 2009, ICC filed its original notification pursuant to section 6(a) of the Act. The Department of Justice published a notice in the Federal Register pursuant to Section 6(b) of the Act on August 26, 2009 (74 FR 43157).

Patricia A. Brink,
Deputy Director of Operations, Antitrust Division.

[FR Doc. 2010-3088 Filed 2-22-10; 8:45 am]

BILLING CODE M